EQUAL EMPLOYMENT OPPORTUNITY COMMISSION

29 CFR Parts 1601 and 1614

RIN 3046-AB31

[FR Doc. 2024-02764]

Amendment of Procedural and Administrative Regulations To Include the Pregnant Workers Fairness Act (PWFA); Correction

AGENCY: Equal Employment Opportunity Commission.

ACTION: Correcting amendments.

SUMMARY: On February 14, 2024, the Equal Employment Opportunity Commission (“EEOC” or “Commission”) amended its procedural regulations to include references to the Pregnant Workers Fairness Act (“PWFA”). Due to drafting errors, two of those changes would not be recognized in the Code of Federal Regulations as drafted, and the Commission therefore issues these correcting amendments to ensure that its procedural regulations reference the PWFA where appropriate.

DATES: These correcting amendments are effective February 23, 2024.

FOR FURTHER INFORMATION CONTACT: Kathleen Oram, Assistant Legal Counsel, (202-900-8652 (voice); 1-800-669-6820 (TTY)), Office of Legal Counsel, 131 M Street NE, Washington, DC 20507.

SUPPLEMENTARY INFORMATION: The Pregnant Workers Fairness Act (“PWFA”) became law on December 29, 2022, and became effective on June 27, 2023. In crafting the PWFA enforcement section, Congress incorporated the existing mechanisms and procedures for redress of other forms of employment discrimination. Procedural regulations were amended to include the PWFA in an interim final rule published in the Federal Register on February 14, 2024 (89 FR 11167).¹ When the interim final rule was published, 29 CFR 1601.17(a) was inadvertently included in instruction 5.f., which replaced the text “title VII, the ADA, or GINA” with “title VII, the ADA, GINA, or the PWFA,” instead of in instruction 6, which replaced references to “title VII, the ADA, and GINA” with “title VII, the ADA, GINA, and the PWFA.” Additionally, the interim final rule's section heading for 29 CFR 1614.407 was revised without a specific instruction to revise the section heading. These correcting amendments fix those errors.

¹ These PWFA references in procedural regulations should not be confused with the EEOC's efforts to publish substantive interpretations of the PWFA. The EEOC is engaged in separate rulemaking to address those substantive provisions, and issued a Notice of Proposed Rulemaking, Regulations to Implement the Pregnant Workers Fairness Act, 88 FR 54714 (Aug. 11, 2023). The final rule is currently under OIRA review.

List of Subjects in 29 CFR Parts 1601 and 1614

Administrative practice and procedure, Equal employment opportunity.

Accordingly, 29 CFR parts 1601 and 1614 are amended by making the following correcting amendments:

PART 1601—PROCEDURAL REGULATIONS

1. The authority citation for part 1601 continues to read as follows:

Authority: 42 U.S.C. 2000e to 2000e-17; 42 U.S.C. 12111 to 12117; 42 U.S.C. 2000ff to 2000ff-11; 42 U.S.C. 2000gg to 2000gg-6; 28 U.S.C. 2461 note, as amended; Pub. L. 104-134, Sec. 31001(s)(1), 110 Stat. 1373.

§ 1601.17 [Amended]

2. In § 1601.17, in the first and second sentences of paragraph (a), remove the words “title VII, the ADA, and GINA” and add in their place the words “title VII, the ADA, GINA, and the PWFA”.

PART 1614—FEDERAL SECTOR EQUAL EMPLOYMENT OPPORTUNITY

3. The authority citation for part 1614 continues to read as follows:

Authority: 29 U.S.C. 206(d), 633a, 791 and 794a; 42 U.S.C. 2000e-16, 2000ff-6(e), and 2000gg-2(e); E.O. 10577, 3 CFR, 1954-1958 Comp., p. 218; E.O. 11222, 3 CFR, 1964-1965 Comp., p. 306; E.O. 11478, 3 CFR, 1969 Comp., p. 133; E.O. 12106, 3 CFR, 1978 Comp., p. 263; Reorg. Plan No. 1 of 1978, 3 CFR, 1978 Comp., p. 321.

4. In § 1614.407, revise the section heading to read as follows:

§ 1614.407 Civil action: Title VII, Age Discrimination in Employment Act, Rehabilitation Act, Genetic Information Nondiscrimination Act, and Pregnant Workers Fairness Act.

* * * * *

Dated: February 16, 2024.
For the Commission.
Charlotte A. Burrows,
Chair.

[FR Doc. 2024-03691 Filed 2-22-24; 8:45 am]

BILLING CODE 6570-01-P